DEPARTMENT OF TRANSPORTATION

Federal Highway Administration

Buy America Waiver Notification

AGENCY: Federal Highway Administration (FHWA), DOT.

ACTION: Notice.

SUMMARY: This notice provides information regarding the FHWA's finding that a Buy America waiver is appropriate for certain steel products used in Federal-aid construction projects in Maine, California, and Oregon.

DATES: The effective date of the waiver is October 7, 2008.

FOR FURTHER INFORMATION CONTACT: For questions about this notice, please contact Mr. Gerald Yakowenko, FHWA Office of Program Administration, (202) 366-1562, gerald.yakowenko@dot.gov. For legal questions, please contact Mr. Michael Harkins, FHWA Office of the Chief Counsel, (202) 366-4928, michael.harkins@dot.gov. Office hours for the FHWA are from 7:45 a.m. to 4:15 p.m., e.t., Monday through Friday, except Federal holidays.

SUPPLEMENTARY INFORMATION:

Electronic Access

An electronic copy of this document may be downloaded from the Federal Register's home page at: http://www.archives.gov and the Government Printing Office's database at: http://www.access.gpo.gov/Nara.

Background

The FHWA's Buy America policy in 23 CFR 635.410 requires a domestic manufacturing process for any steel or iron products (including protective coatings) that are permanently incorporated in a Federal-aid construction project. The regulation also provides for a waiver of the Buy America requirements when application of the requirements would be inconsistent with the public interest or when satisfactory quality domestic steel and iron products are not sufficiently available. This notice provides information regarding the FHWA's finding that a Buy America waiver is appropriate for three specific cases.

In accordance with section 130 of Division K of the “Consolidated Appropriations Act, 2008” (Pub. L. 110-161), on July 24, 2008, the FHWA published on its Web site a notice of intent to issue a waiver for a Casing shoe for dual rotary drill rig in Maine (http://www.fhwa.dot.gov/construction/contracts/waivers.cfm?id=16) and for Self-drill and Grout Dowels and Self-Drill Grout spiles in California (http://www.fhwa.dot.gov/construction/contracts/waivers.cfm?id=15). In addition, on July 31, 2008, the FHWA published a notice of intent on its Web site to issue a waiver (http://www.fhwa.dot.gov/construction/contracts/waivers.cfm?id=17) for 1” Hollow Core Anchors for a Federal-aid railroad project in Oregon. No comments were received in response to either of these notices. During the 15-day comment period, the FHWA conducted a nationwide review to locate potential domestic manufacturers. Based on all the information available to the Agency, including the lack of response received to the notices as well as the Agency's nationwide review, the FHWA concludes that there are no domestic manufacturers for these products and a Buy America waiver is appropriate as provided by 23 CFR 635.410(c)(1).

In accordance with the provisions of section 117 of the “SAFETEA-LU Technical Corrections Act of 2008” (Pub. L. 110-244, 122 Stat. 1572), the FHWA is providing this notice as its finding that a waiver of Buy America requirements is appropriate. The FHWA invites public comment on this finding for an additional 15 days following the effective date of the finding. Comments may be submitted to the FHWA's Web site via the links above to the Maine, California and Oregon waiver pages noted above.

(Authority: 23 U.S.C. 313; Pub. L. 110-161, 23 CFR 635.410)

Issued on: September 29, 2008.
Thomas J. Madison, Jr.,
Federal Highway Administrator.

[FR Doc. E8-23571 Filed 10-3-08; 8:45 am]

BILLING CODE 4910-22-P